DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Florida:
Duval (FEMA Docket No.: B-2429) | City of Jacksonville (23-04-4924P) | The Honorable Donna Deegan, Mayor, City of Jacksonville, 117 West Duval Street, Suite 400, Jacksonville, FL 32202 | Development Services Department, 214 North Hogan Street, Room 2100, Jacksonville, FL 32202 | Jul. 31, 2024 | 120077
Lake (FEMA Docket No.: B-2451) | City of Leesburg (24-04-2358P) | The Honorable Jimmy Burry, 501 West Meadow Street, Leesburg, FL 34748 | Public Works Department, 220 South 14th Street, Leesburg, FL 34748 | Oct. 28, 2024 | 120136
Illinois:
Lake (FEMA Docket No.: B-2394) | City of Waukegan (23-05-2407P) | The Honorable Ann B. Taylor, Mayor, City of Waukegan, 100 North Martin Luther King, Jr. Avenue, Waukegan, IL 60085 | City Hall, 100 North Martin Luther King, Jr. Avenue, Waukegan, IL 60085 | Feb. 21, 2024 | 170397
Lake (FEMA Docket No.: B-2394) | City of Zion (23-05-2407P) | The Honorable Billy McKinney, Mayor, City of Zion, 2828 Sheridan Road, Zion, IL 60099 | City Hall, 2828 Sheridan Road, Zion, IL 60099 | Feb. 21, 2024 | 170399
Lake (FEMA Docket No.: B-2394) | Village of Beach Park (23-05-2407P) | The Honorable John Hucker, Mayor, Village of Beach Park, 11270 West Wadsworth Road, Beach Park, IL 60099 | Village Hall, 11270 West Wadsworth Road, Beach Park, IL 60099 | Feb. 21, 2024 | 171022
Lake (FEMA Docket No.: B-2394) | Village of Grayslake (23-05-2407P) | The Honorable Rhett Taylor, Mayor, Village of Grayslake, 10 South Seymour Avenue, Grayslake, IL 60030 | Village Hall, 10 South Seymour Avenue, Grayslake, IL 60030 | Feb. 21, 2024 | 170363
Lake (FEMA Docket No.: B-2394) | Village of Old Mill Creek(23-05-2407P) | Tempel (Tim) Smith, President, Village of Old Mill Creek, P.O. Box 428, Old Mill Creek, IL 60083 | Village Hall, 19020 Old Grass Lake Road, Old Mill Creek, IL 60046 | Feb. 21, 2024 | 170385
Lake (FEMA Docket No.: B-2394) | Village of Third Lake (23-05-2407P) | Rodney Buckley, President, Village of Third Lake, 87 North Lake Avenue, Third Lake, IL 60030 | Village Hall, 87 North Lake Avenue, Third Lake, IL 60030 | Feb. 21, 2024 | 170392
Lake (FEMA Docket No.: B-2394) | Village of Winthrop Harbor (23-05-2407P) | The Honorable Mike Bruno, Mayor, Village of Winthrop Harbor, 830 Sheridan Road, Winthrop Harbor, IL 60096 | Village Hall, 830 Sheridan Road, Winthrop Harbor, IL 60096 | Feb. 21, 2024 | 170398
Lake (FEMA Docket No.: B-2394) | Unincorporated areas of Lake County (23-05-2407P) | Gary Gibson, Lake County Administrator, 18 North County Street, 9th Floor, Waukegan, IL 60085 | Lake County Central Permit Facility, 500 West Winchester Road, Unit 101, Libertyville, IL 60048 | Feb. 21, 2024 | 170357
Indiana:
Shelby (FEMA Docket No.: B-2451) | City of Shelbyville (24-05-0650P) | The Honorable Scott Furgeson, Mayor, City of Shelbyville, 44 West Washington Street, Shelbyville, IN 46176 | Planning Commission, 44 West Washington Street, Shelbyville, IN 46176 | Nov. 4, 2024 | 180236
Shelby (FEMA Docket No.: B-2451) | Unincorporated areas of Shelby County (24-05-0650P) | Don Parker, President, Shelby County Commissioner, 25 West Polk Street, Room 206, Shelbyville, IN 46176 | Shelby County Planning Commission, 25 West Polk Street, Shelbyville, IN 46176 | Nov. 4, 2024 | 180235
Kansas: Johnson (FEMA Docket N/A) | City of Overland Park (23-07-0487P) | The Honorable Curt Skoog, Mayor, City of Overland Park, 8500 Santa Fe Drive, Overland Park, KS 66212 | City Hall, 8500 Santa Fe Drive, Overland Park, KS 66212 | Nov. 13, 2024 | 200174
Michigan: Van Buren (FEMA Docket No.: B-2451) | Township of Covert (23-05-2389P) | Daywi Cook, Supervisor, Township of Covert, 73943 East Lake Street, Covert, MI 49043 | Township Hall, 73943 East Lake Street, Covert, MI 49043 | Oct. 21, 2024 | 260259
New York:
Erie (FEMA Docket No.: B-2451) | Town of Orchard Park (23-02-0681P) | Eugene Majchrzak, Supervisor, Town of Orchard Park, 4295 Sout Buffalo Street, Orchard Park, NY 14127 | Village Hall, 4295 Sout Buffalo Street, Orchard Park, NY 14127 | Nov. 21, 2024 | 360255
New Herkimer (FEMA Docket No.: B-2451) | Village of Dolgeville (23-02-0219P) | The Honorable Mary E. Puznowski, Mayor, Village of Dolgeville, 41 North Main Street, Dolgeville, NY 13329 | Village Hall, 41 North Main Street, Dolgeville, NY 13329 | Nov. 21, 2024 | 360301
Westchester (FEMA Docket No.: B-2429) | Village of Mamaroneck (22-02-0906P) | The Honorable Sharon Torres, Mayor, Village of Mamaroneck, 123 Mamaroneck Avenue, Mamaroneck, NY 10543 | Building Inspector's Office, 123 Mamaroneck Avenue, Mamaroneck, NY 10543 | Sep. 12, 2024 | 360916
Ohio:
Butler (FEMA Docket No.: B-2451) | City of Fairfield (23-05-2358P) | The Honorable Mitch Rhodus, Mayor, City of Fairfield, 5350 Pleasant Avenue, Fairfield, OH 45014 | City Hall, 5350 Pleasant Avenue, Fairfield, OH 45014 | Oct. 31, 2024 | 390038
Butler (FEMA Docket No.: B-2451) | City of Hamilton (23-05-2358P) | The Honorable Pat Moeller, Mayor, City of Hamilton, 345 High Street, Suite 780, Hamilton, OH 45011 | Department of Community Development, Planning Division, 345 High Street, Suite 370, Hamilton, OH 45011 | Oct. 31, 2024 | 390039
Butler (FEMA Docket No.: B-2451) | Unincorporated areas of Butler County (23-05-2358P) | Cindy Carpenter, President, Butler County, Board of Commissioners, 315 High Street, 6th Floor, Hamilton, OH 45011 | Butler County Administrative Center Building and Zoning Department, 130 High Street, 1st Floor, Hamilton, OH 45011 | Oct. 31, 2024 | 390037
Texas:
Brazos (FEMA Docket N/A) | City of Bryan (22-06-2507P) | The Honorable Bobby Gutierrez, Mayor, City of Bryan, P.O. Box 1000, Bryan, TX 77805 | City Hall, 300 South Texas Avenue, 300 South Texas Avenue, Bryan, TX 77803 | Feb. 2, 2024 | 480082
Brazos (FEMA Docket N/A) | Unincorporated areas of Brazos County (22-06-2507P) | The Honorable Duane Peters, Brazos County Judge, 200 South Texas Avenue, Suite 332, Bryan, TX 77803 | Brazos County Road and Bridge Department, 2617 Highway 21 West, Bryan, TX 77803 | Feb. 2, 2024 | 481195
La Salle (FEMA Docket No.: B-2451) | City of Cotulla (24-06-0886P) | The Honorable Javier Garcia, Mayor, City of Cotulla, 117 North Front Street, Cotulla, TX 78014 | City Hall, 117 North Front Street, Cotulla, TX 78014 | Oct. 18, 2024 | 480431
Wisconsin: Outagamie (FEMA Docket N/A) | Unincorporated areas of Outagamie County (23-05-2202P) | Jeff Nooyen, Chair, Outagamie County Board, 1754 Winesap Lane, Grand Chute, WI 54914 | Outagamie County Administration Building, 410 South Walnut Street, Appleton, WI, 54911 | Jun. 10, 2024 | 550302

[FR Doc. 2024-29975 Filed 12-17-24; 8:45 am]

BILLING CODE 9110-12-P